DEPARTMENT OF HEALTH AND HUMAN SERVICES

Health Resources and Services Administration

Agency Information Collection Activities: Submission to OMB for Review and Approval; Public Comment Request; Shortage Designation Management System, OMB No. 0906-0029—Extension

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than January 16, 2026.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION: When submitting comments or requesting information, please include the ICR title for reference.

Information Collection Request Title: Shortage Designation Management System OMB No. 0906-0029—Extension.

Abstract: HRSA is committed to improving the health of the Nation's underserved communities and vulnerable populations by developing, implementing, evaluating, and refining programs that strengthen the nation's health workforce. The Department of Health and Human Services relies on two federal shortage designations to identify and dedicate resources to areas and populations in greatest need of providers: Health Professional Shortage Area (HPSA) designations and Medically Underserved Area/Medically Underserved Population (MUA/P) designations. HPSA designations are geographic areas, population groups, and facilities that are experiencing a shortage of health professionals. The authorizing statute for the National Health Service Corps (NHSC) created HPSAs to fulfill the statutory requirement that NHSC personnel be directed to areas of greatest need. To further differentiate areas of greatest need, HRSA calculates a score for each HPSA. There are three categories of HPSAs based on health discipline: primary care, dental health, and mental health. Scores range from 1 to 25 for primary care and mental health and from 1 to 26 for dental health, with higher scores indicating greater need. They are used to prioritize applications for NHSC Loan Repayment Program award funding and determine service sites eligible to receive NHSC Scholarship and Students-to-Service participants.

MUA/P designations are geographic areas, or population groups within geographic areas, that are experiencing a shortage of primary care health care services based on the Index of Medical Underservice. MUAs are designated for the entire population of a particular geographic area. MUP designations are limited to a particular subset of the population within a geographic area. Both designations were created to aid the federal government in identifying areas with healthcare workforce shortages.

As part of HRSA's Bureau of Health Workforce's cooperative agreement with the state primary care offices (PCOs), the state PCOs conduct needs assessments in their states, determine what areas are eligible for designations, and submit designation applications for HRSA review via the Shortage Designation Management System (SDMS). Requests that come from other sources are referred to the PCOs for their review, concurrence, and submission via SDMS. To obtain a federal shortage designation for an area, population, or facility, PCOs must submit a shortage designation application through SDMS for review and approval by HRSA. Both HPSA and MUA/P applications request local, state, and national data on the population that is experiencing a shortage of health professionals and the number of health professionals relative to the population covered by the proposed designation. The information collected on the applications is used to determine which areas, populations, and facilities have qualifying shortages.

In addition, interested parties, including the state's governor, primary care association, and professional associations are notified of each designation request submitted via SDMS for their comments and recommendations.

HRSA reviews the HPSA applications submitted by the state PCOs, and—if they meet the designation eligibility criteria for the type of HPSA or MUA/P the application is for—designates the HPSA or MUA/P on behalf of the Secretary of Health and Human Services. HPSAs are statutorily required to be annually reviewed and revised as necessary after initial designation to reflect current data. HPSA scores, therefore, may and do change from time to time. MUA/Ps do not have a statutorily mandated review period.

The lists of designated HPSAs are published annually in the Federal Register. In addition, lists of HPSAs are updated on the HRSA website (https://data.hrsa.gov/) so that interested parties can access the information.

A 60-day notice was published in the Federal Register on May 19, 2025, vol. 90, No. 95; pp. 21318-19. There were 51 public comments. Below is a summary of key themes raised in the comments and HRSA's response:

The public comments HRSA received largely centered around two key themes: (1) the essential role of MUA/P and HPSA designations in supporting community health centers (CHCs), and (2) the administrative burden and data integrity challenges involved in shortage designation processes.

• A total of 36 commenters—including CHCs, state associations, and national organizations emphasized that these designations are critical for funding, workforce recruitment (especially through the NHSC), expansion of services, and addressing broader impacts on health outcomes, such as food and pharmacy deserts. Many stressed that without these designations, CHCs would face severe operational and financial strain, leading to reduced access and worsened disparities. HRSA acknowledged these concerns, reaffirming the importance of these designations, and its recognition of their role in improving health outcomes and supporting safety-net providers.

• Another 12 commenters, especially from State Primary Care Offices, and technical organizations, focused on underestimation of administrative burden and technical challenges with the SDMS system. They highlighted that HRSA's estimated eight-hour workload was unrealistically low, pointing instead to much higher demands for provider updates, data acquisition, and reconciliation. Suggestions included integrating federal datasets (e.g., Medicaid, CDC, NSDUH), improving SDMS functionality (geocoding, duplicate checks, provider exit tracking), and providing clearer federal guidance. HRSA acknowledged these concerns, agreed that accurate data and system performance are critical, and committed to reviewing burden estimates, pursuing automation and integration of federal datasets, and exploring system enhancements. However, HRSA also noted that certain structural changes (e.g., adjusting population thresholds or adopting new designation methodologies) would require regulatory action through formal rulemaking.

• Finally, 3 commenters offered more targeted recommendations, such as adopting the ADA Dental Care Geographic Accessibility Dashboard, revising population thresholds, or grandfathering existing designations. HRSA expressed appreciation for these suggestions and noted that while it is open to considering alternatives, such changes would require formal regulatory updates before implementation.

Need and Proposed Use of the Information: The information obtained from the SDMS applications is used to determine which areas, populations, and facilities have critical shortages of health professionals per PCO application submission. The SDMS HPSA and MUA/P applications are used for these designation determinations. Applicants must have an SDMS application submitted to HRSA to obtain a federal shortage designation. In addition, the application must contain detailed information explaining how the area, population, or facility faces a critical shortage of health professionals.

Likely Respondents: State primary care offices and or site points of contact interested in obtaining a primary care, dental health, or mental health HPSA designation or an MUA/P in their state.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of respondents | Number of responses per respondent | Total responses | Average burden per response (in hours) | Total burden hours
Designation Planning and Preparation | 54 | 48 | 2,592 | 8 | 20,736
SDMS Application | 54 | 83 | 4,482 | 4 | 17,928
Total | 54 |  | 7,074 |  | 38,664

Maria G. Button,
Director, Executive Secretariat.

[FR Doc. 2025-23065 Filed 12-16-25; 8:45 am]

BILLING CODE 4165-15-P